DEPARTMENT OF COMMERCE

National Oceanic and Atmospheric Administration

RIN 0648-XY65

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene two meetings of the Annual Catch Limit/Annual Catch Target Control Rule Working Group.

DATES: The first meeting will convene at 9 a.m. on Monday, September 20, 2010 and conclude by 3 p.m. and the second meeting will convene at 9 a.m. on Wednesday, October 6, 2010 and conclude by 12 p.m.

ADDRESSES: The first meeting will be held at the Gulf of Mexico Fishery Management Council, 2203 North Lois Avenue, Suite 1100, Tampa, FL 33607, (813) 348-1630. The second meeting will convene via webinar.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Annual Catch Limit/Annual Catch Target Control Rule Working Group will review and further develop a draft control rule to be included in the Generic Annual Catch Limits/Accountability Measures Amendment. The control rule will be used by the Council in setting a buffer that accounts for management uncertainty between acceptable biological catch and annual catch limit, or between annual catch limit and annual catch target. For fisheries that have the annual catch limit allocated into sectors, the control rule will determine the buffer for each sector individually.

Copies of the agenda and other related materials can be obtained by calling (813) 348-1630 or can be downloaded from the Council's ftp site, ftp.gulfcouncil.org. To get directly to the folder containing the meeting materials, enter the following: http://ftp.gulfcouncil.org?user=anonymous, and navigate to the folder named ACL-ACT Control Rule Working Group.

Although other non-emergency issues not on the agenda may come before the Annual Catch Limit/Annual Catch Target Control Rule Working Group for discussion, in accordance with the Magnuson-Stevens Fishery Conservation and Management Act, those issues may not be the subject of formal action during these meetings. Actions of the Annual Catch Limit/Annual Catch Target Control Working Group will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: August 30, 2010.
Tracey L. Thompson,
Acting Director, Office of Sustainable Fisheries, National Marine Fisheries Service.

[FR Doc. 2010-21906 Filed 9-1-10; 8:45 am]

BILLING CODE 3510-22-S